INTERNATIONAL TRADE COMMISSION

[Investigation No. 337-TA-1396]

Certain Medical Programmers With Printed Circuit Boards, Components Thereof, and Products and Systems for Use With the Same; Notice of Commission Determination Not To Review an Initial Determination Granting Complainants' Motion To Amend the Complaint and Notice of Investigation

AGENCY: U.S. International Trade Commission.

ACTION: Notice.

SUMMARY: Notice is hereby given that the U.S. International Trade Commission has determined not to review an initial determination (“ID”) (Order No. 11) of the presiding administrative law judge (“ALJ”) granting complainants' motion to amend the complaint to correct a typographical error on the cover page and the notice of investigation (“NOI”) to change the plain language description of the accused products in the above-captioned investigation.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on April 3, 2024, based on a complaint filed by Medtronic, Inc., Medtronic Logistics, LLC, and Medtronic USA, Inc., all of Minneapolis, Minnesota, and Medtronic Puerto Rico Operations Co. of Juncos, Puerto Rico (collectively, “Medtronic”). 89 FR 23043-44 (Apr. 3, 2024). The complaint, as supplemented, alleges violations of section 337 of the Tariff Act of 1930, as amended, 19 U.S.C. 1337, based on the importation into the United States, the sale for importation, and the sale within the United States after importation of certain medical programmers with printed circuit boards, components thereof, and products and systems for use with the same by reason of the infringement of certain claims of U.S. Patent Nos. 8,712,540 and 9,174,059. Id. at 23043. The complaint further alleges that a domestic industry exists. Id. The NOI named one respondent: Axonics, Inc. (“Axonics”) of Irvine, California. Id. at 23044. The Office of Unfair Import Investigations (“OUII”) is also named as a party. Id.

On June 25, 2024, Medtronic filed a motion to amend the complaint and NOI to (i) correct a typographical error on the cover page of the complaint by substituting “UNITED” in place of “MUNITED,” and (ii) change the NOI's plain language description of the accused products—which presently reads “sacral neuromodulation systems to control neurostimulators surgically implanted into a human patient, incorporating medical programmers and printed circuit boards used in same”—by substituting “components thereof, and” in place of “incorporating.” On July 5, 2024, Axonics filed a response to the motion opposing the amendment to the NOI, but not opposing the amendment to the complaint. Also on July 5, 2024, OUII filed a response in support of the motion.

On July 11, 2024, the ALJ issued the subject ID granting the motion. The ID finds that, in accordance with Commission Rule 210.14(b) (19 CFR 210.14(b)), good cause exists for amending the complaint and NOI as requested by Medtronic and neither the parties nor the public interest will be prejudiced. ID at 1, 3. No petitions for review of the subject ID were filed.

The Commission has determined not to review the subject ID. The complaint is amended to substitute “UNITED” in place of “MUNITED,” and the NOI is amended so that the plain language description of the accused products reads “sacral neuromodulation systems to control neurostimulators surgically implanted into a human patient, components thereof, and medical programmers and printed circuit boards used in same.”

The Commission vote for this determination took place on August 12, 2024.

The authority for the Commission's determination is contained in section 337 of the Tariff Act of 1930, as amended (19 U.S.C. 1337), and in Part 210 of the Commission's Rules of Practice and Procedure (19 CFR Part 210).

By order of the Commission.
Issued: August 12, 2024.
Lisa Barton,
Secretary to the Commission.

[FR Doc. 2024-18313 Filed 8-14-24; 8:45 am]

BILLING CODE 7020-02-P